DEPARTMENT OF LABOR

[Docket No. DOL-2020-0009]

Privacy Act of 1974; System of Records

AGENCY: Office of Inspector General (OIG), United States Department of Labor.

ACTION: Notice of a new system of records.

SUMMARY: In accordance with the Privacy Act of 1974, as amended (“Privacy Act”), the U.S. Department of Labor (“Department”) publishes this notice of a new system of records titled “Office of Inspector General Warehouse and Learning System (OWLS),” DOL/OIG-12. This system will consist of data that is already stored in departmental, state, and other Federal databases; and will aid in the furtherance of OIG's statutory duties under the Inspector General Act of 1978 in the performance of audits, evaluations, reviews, and investigations.

DATES: This System of Records Notice (SORN) is effective upon its publication in today's Federal Register with the exception of the routine uses. The new routine uses will not be effective until October 28, 2020 pending public comment. Comments on the new routine uses or other aspects of the SORN must be submitted on or before October 28, 2020.

ADDRESSES: Submit your comments by one of the following methods:

Electronic Comments: Comments may be sent via email to SORNComments@oig.dol.gov. http://www.regulations.gov, to submit comments on documents that agencies have published in the Federal Register and that are open for comment.

Mail: Address written submissions (including disk and CD-ROM submissions) to U.S. DOL Office of Inspector General, Office of Management and Policy, Attention: Chief, Branch of Database Management and Applications, 200 Constitution Avenue NW, Washington, DC 20210.

Instructions: Please submit only one copy of your comments by only one method. All submissions must include the agency's name and the Docket Number 2020-0009. Please be advised that comments received will become a matter of public record and will be posted without change to http://www.regulations.gov, including any personal information provided. Comments that are mailed must be received by the date indicated for consideration.

Docket: For access to the docket to read background documents or comments, go to the Federal e-Rulemaking Portal at http://www.regulations.gov.

FOR FURTHER INFORMATION CONTACT: U.S. DOL Office of Inspector General, Office of Management and Policy, Attention: Chief, Branch of Database Management and Applications, John Birdsell, 200 Constitution Avenue NW, Washington, DC 20210. Telephone: 202-693-7055.

SUPPLEMENTARY INFORMATION: This new system of records is established for the general purpose of enabling the Department's Office of Inspector General (OIG) to fulfill its statutory duties and responsibilities under the Inspector General Act of 1978, as amended, 5 U.S.C. Appendix 3 (“IG Act”). The OIG conducts, supervises, and coordinates audits, evaluations, reviews, and investigations relating to programs and operations of the Department. This system facilitates OIG's performance by providing timely access to data that is already stored in departmental, state, and other Federal databases to which OIG has legal authorization to access and maintain. The system allows OIG to monitor and manage large amounts of data for indicators and evidence of inefficiencies, fraud, waste, abuse, or criminal activity.

Pursuant to 5 U.S.C. 552a(j)(2), the Department may exempt from a limited number of Privacy Act requirements a system of records that is maintained by a component which performs as its primary function any activity pertaining to the enforcement of criminal laws and which consists of information compiled in furtherance of its functions. Additionally, pursuant to 5 U.S.C. 552a(k)(1) and (k)(2), through rulemaking, the Department may exempt from a limited number of Privacy Act requirements a system of records which are disclosed to departmental officers and employees with a need for the record, or which contains investigatory materials compiled for law enforcement purposes other than material within the scope of 5 U.S.C. 552(j)(2). The materials in this system of records fall within the scope of sections 552a(j)(2), (k)(1) and (k)(2). In accordance with 5 U.S.C. 522(r), the Department provided a report to OMB and Congress on this new system.

SYSTEM NAME AND NUMBER:

Office of Inspector General Warehouse and Learning System (OWLS), DOL/OIG-12.

SECURITY CLASSIFICATION:

Unclassified.

SYSTEM LOCATION:

Primary location: Offices in various components within the U.S. Department of Labor, at the Frances Perkins Building, 200 Constitution Avenue NW, Washington, DC 20210, or other Department offices. Additionally, duplicate versions of some or all system information may also be at satellite locations where the OIG has granted direct access to support OIG operations, system backup, emergency preparedness, and/or continuity of operations. To determine the location of particular program records, contact the system manager, listed in section “SYSTEM MANAGER” below.

SYSTEM MANAGER(S):

U.S. DOL Office of Inspector General, Office of Management and Policy, Attention: Chief, Branch of Database Management and Applications, 200 Constitution Avenue NW, Washington, DC 20210.

AUTHORITY FOR MAINTENANCE OF THE SYSTEM:

The Inspector General Act of 1978, as amended, 5 U.S.C. Appendix 3.

PURPOSE(S) OF THE SYSTEM:

The system will enable the OIG to fulfill its statutory duties and responsibilities; facilitate the OIG's supervision and coordination of audits, evaluations, reviews, and investigations of departmental programs and operations; conduct, supervise, and coordinate relationships with other Federal, state, and local agencies on matters relating to investigation, prosecution, oversight, or enforcement of laws or regulations; promote economy and efficiency; and prevent fraud and abuse in the Department's programs and operations. The system will use data that OIG has legal authority to obtain and maintain to perform advanced statistical techniques, data modeling for indications of fraud, waste, and abuse, and internal control weaknesses.

CATEGORIES OF INDIVIDUALS COVERED BY THE SYSTEM:

Individuals who have applied for or received benefits, grants, payments, contracts, loans, and salary from the Department; those individuals who provided benefits or services under a departmental program; individuals who are associated with various state or Federal programs and whose actions impact the Department; employees of the Department, consultants, contractors, grantees, advisory committee members, and others who receive funds from the Department for performing services; U.S. employers who seek to hire nonimmigrant aliens as workers in specialty occupations; persons receiving benefits from the Workers' Compensation programs; individuals who have transacted with, utilized, are covered by a departmental component or program, and their surviving spouses, children, dependent parents and siblings; individuals who have transacted with, utilized, or are covered under a program of another Federal or state agency that is associated with a departmental program, and their surviving spouses, children, dependent parents and siblings; individuals alleged to have violated laws, regulations, or policies relating to departmental programs; individuals involved with hearings or inquiries relating to departmental programs; and Federal employees who apply for and/or utilize Government programs or receive or expend funds in an official capacity for the Department.

CATEGORIES OF RECORDS IN THE SYSTEM:

The system includes but is not limited to names, social security numbers, date of birth, address, telephone number, email address, benefits information, medical information, application information, payments, banking and financial information, contracts, loans, salary, travel, hearings, inquiries, investigations, audits, reviews, and other records relevant to benefits or programs administered by the Department or associated Federal or state programs.

RECORD SOURCE CATEGORIES:

The new system will include records obtained from systems of records already maintained by the Department, state, or other Federal agencies.

ROUTINE USES OF RECORDS MAINTAINED IN THE SYSTEM, INCLUDING CATEGORIES OF USERS AND PURPOSES OF SUCH USES:

In addition to the disclosures permitted under 5 U.S.C. 522a(b), as well as those contained in the Department's Universal Routine Uses of Records, all or a portion of the records or information in this system may be disclosed as a routine use under circumstances described below. The OIG may disclose information contained in a record in this system of records without the consent of the individual if the disclosure is compatible with the purpose for which the OIG collected the record.

(1) The OIG may disclose information from this system of records to other public authorities responsible for identifying fraud, waste, or abuse related to the Department's programs and operations; to enforce, investigate, prosecute, oversee, or assist in the enforcement of laws and regulations if the information is relevant to the functions and responsibilities of the OIG or the receiving entity.

(2) To disclose records to public and private entities or individuals that the OIG has reason to believe possesses information regarding a matter within the jurisdiction of the OIG to obtain information relevant to OIG functions and duties. The OIG may disclose information from this system of records as a routine use to public or private sources to the extent necessary to obtain information from those sources relevant to an OIG investigation, audit, inspection, or other inquiry or review.

(3) To disclose to the Council of Inspectors General for Integrity and Efficiency (CIGIE) or other Federal entities. OIG may disclose records as a routine use to members and employees of the CIGIE or any successor entity, or other Federal entity for the preparation of reports to the President and Congress on the activities of the Inspectors General, for the purpose of conducting qualitative assessment reviews of the investigative or audit operations of the OIG to ensure that adequate internal safeguards and management procedures are maintained, or for the purpose of facilitating or aiding the functions and responsibilities of the OIG.

(4) To disclose to a state, local, or other Federal agency considering suspension or debarment action if the information is relevant to the suspension or debarment action. The OIG also may disclose information to any Federal, state, or local agency to gain information in support of the Department's own debarment and suspension actions.

(5) To disclose to complainants and/or victims. To the extent necessary to obtain information from such persons or to provide information or explanations on the progress of an investigation or inquiry.

(6) The OIG may disclose records as a routine use to any Federal, state, local, or foreign agency, or other public authority,

a. if relevant to the prevention or detection of fraud and abuse in benefit programs administered by any agency or public authority; or

b. if relevant to the collection of debts or overpayments owed to any agency or public authority.

(7) The OIG may disclose records to appropriate agencies, entities, and persons when it is suspected or confirmed that the security or confidentiality of information in this system has been compromised to assist the OIG in responding to the suspected or confirmed compromise and in helping the OIG prevent, minimize, or remedy such harm.

(8) To disclose to the National Archives and Records Administration for purposes of records management inspections conducted under the authority of 44 U.S.C. 2904 and 2906.

CONGRESSIONAL INQUIRIES DISCLOSURE ROUTINE USE:

The following Universal Routine Use for DOL Privacy Act Systems applies: Disclosure from a system of records maintained by a DOL Agency may be made to a Member of Congress or to a Congressional staff member in response to an inquiry of the Congressional office made at the written request of the constituent about whom the record is maintained.

DISCLOSURE TO THE DEPARTMENT OF JUSTICE FOR LITIGATION ROUTINE USE:

The following Universal Routine Use for DOL Privacy Act Systems applies: To the Department of Justice when: (a) DOL or any component thereof; or (b) any employee of DOL in his or her official capacity; or (c) the United States Government, is a party to litigation or has an interest in such litigation, and by careful review, DOL determines that the records are both relevant and necessary to the litigation, and the use of such records by the Department of Justice is for a purpose that is compatible with the purpose for which DOL collected the records.

DISCLOSURE OF INFORMATION TO THE NATIONAL ARCHIVES AND RECORDS ADMINISTRATION ROUTINE USE:

The following Universal Routine Use for DOL Privacy Act Systems applies: A record from a system of records maintained by a DOL Agency may be disclosed as a routine use to the National Archives and Records Administration for the purpose of records management inspections conducted under authority of 44 U.S.C. 2904 and 2906.

PRIVACY ACT ROUTINE USES REQUIRED TO RESPOND TO A BREACH:

(1) To appropriate agencies, entities, and persons when (1) DOL suspects or has confirmed that there has been a breach of the system of records,· (2) DOL has determined that as a result of the suspected or confirmed breach there is a risk of harm to individuals, DOL (including its information systems, programs, and operations), the Federal Government, or national security; and (3) the disclosure made to such agencies, entities, and persons is reasonably necessary to assist in connection with DOL efforts to respond to the suspected or confirmed breach or to prevent, minimize, or remedy such harm.

(2) To another Federal agency or Federal entity, when DOL determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

The records are primarily maintained in electronic form on encrypted magnetic disks, encrypted tape cartridges, and on electronic media.

POLICIES AND PRACTICES FOR RETRIEVAL OF RECORDS:

Records in this system of records may be retrieved by any identifying information of an individual, institution, or business.

POLICIES AND PRACTICES FOR RETENTION AND DISPOSAL OF RECORDS:

Records are maintained and disposed of in accordance with the Department's Records Disposition Schedules applicable to the aforementioned records. A new records retention and disposition schedule is under development for this system of records. Until NARA approves a retention and disposition schedule for these records, the OIG will not destroy any records.

ADMINISTRATIVE, TECHNICAL, AND PHYSICAL SAFEGUARDS:

OWLS is housed within a secure and controlled data center, with access restricted to authorized personnel. All data contained in the system is kept on a secured and restricted non-pubic network. The general public does not have access to OWLS. All information stored in this system is secured by using database encryption technology and is resistant to tampering and circumvention by unauthorized users. Access to data by all users is monitored using both automated and manual controls.

RECORD ACCESS PROCEDURES:

A request for access should be mailed to the System Manager and comply with the requirements specified in 29 CFR 71.2.

CONTESTING RECORD PROCEDURES:

A petition for amendment should be mailed to the System Manager and comply with the requirements specified in 29 CFR 71.9.

NOTIFICATION PROCEDURES:

Inquiries should be mailed to the System Manager and comply with the requirements specified in 29 CFR 71.

EXEMPTIONS PROMULGATED FOR THE SYSTEM:

The system will consist of records compiled from existing systems of records maintained by the Department and other Federal and state agencies. Pursuant to 5 U.S.C. 552a(j)(2), the Secretary, through rulemaking, plans to exempt the system from subsections (c)(3) and (4); (d); (e)(1), (2), (3), (5) and (8); and (g) of the Privacy Act. Additionally, pursuant to 5 U.S.C. 552a(k)(1) and (k)(2), the Secretary, through rulemaking, plans to exempt a limited number of Privacy Act provisions. The OIG will continue to apply to individual records within the system any Privacy Act exemptions which apply to the system(s) from which the relevant record(s) originated. The Privacy Act Systems of Records Notices which describe in detail the exemptions claimed for each DOL system from which OWLS records will be derived can be found online at the following Web address: https://www.dol.gov/sol/privacy.

HISTORY:

None.

Dated: September 22, 2020.
Bryan Slater,
Assistant Secretary for Administration & Management.

[FR Doc. 2020-21279 Filed 9-25-20; 8:45 am]

BILLING CODE 4510-04-P